DEPARTMENT OF HOMELAND SECURITY

U.S. Citizenship and Immigration Services

Agency Information Collection Activities: Extension of an Existing Information Collection; Comment Request

ACTION: 60-day notice of information collection under review; application by refugee for waiver of grounds of excludability; Form I-602.

The Department of Homeland Security, U.S. Citizenship and Immigrant Services (USCIS) has submitted the following information collection request for review and clearance in accordance with the Paperwork Reduction Act of 1995. The information collection is published to obtain comments from the public and affected agencies. Comments are encouraged and will be accepted for sixty days until June 15, 2005.

Written comments and suggestions from the public and affected agencies concerning the collection of information should address one or more of the following four points:

(1) Evaluate whether the collection of information is necessary for the proper performance of the functions of the agency, including whether the information will have practical utility;

(2) Evaluate the accuracy of the agencies estimate of the burden of the collection of information, including the validity of the methodology and assumptions used;

(3) Enhance the quality, utility, and clarity of the information to be collected; and

(4) Minimize the burden of the collection of information on those who are to respond, including through the use of appropriate automated, electronic, mechanical, or other technological collection techniques, or other forms of information technology, e.g., permitting electronic submission of responses.

Overview of this information collection:

(1) Type of Information Collection: Extension of a currently approved collection.

(2) Title of the Form/Collection: Application by Refugee for Waiver of Grounds of Excludability.

(3) Agency form number, if any, and the applicable component of the Department of Homeland Security sponsoring the collection: Form I-602. U.S. Citizenship and Immigration Services.

(4) Affected public who will be asked or required to respond, as well as a brief abstract: Primary: Individuals and households. This form is used by the USCIS to determine eligibility for a waiver.

(5) An estimate of the total number of respondents and the amount of time estimated for an average respondent to respond: 2,500 responses at 15 minutes (.25) per response.

(6) An estimate of the total public burden (in hours) associated with the collection: 625 annual burden hours.

If you have comments, suggestions, or need a copy of the information collection instrument, please visit the USCIS Web site at http://www.uscis.gov, go to the “Fingerprinting and Forms” link, then scroll down the page for this form. Also you may contact Richard A. Sloan, Director, Regulatory Management Division, U.S. Citizenship and Immigration Services, 111 Massachusetts Avenue, NW., Washington, DC 20529; 202-272-8377.

Dated: May 6, 2005.
Richard A. Sloan,
Director, Regulatory Management Division, U.S. Citizenship and Immigration Services.

[FR Doc. 05-9671 Filed 5-13-05; 8:45 am]

BILLING CODE 4410-10-M